ENVIRONMENTAL PROTECTION AGENCY

40 CFR Parts 260, 261, 262, 263, 264, 265, 266, 267, 268 and 270

[EPA-HQ-OLEM-2023-0320; FRL: 10001-02-OLEM]

RIN 2050-AH29

Used Drum Management and Reconditioning; Extension of Comment Period

AGENCY: Environmental Protection Agency.

ACTION: Advance notice of proposed rulemaking; extension of comment period.

SUMMARY: The U.S. Environmental Protection Agency (the EPA) is extending the comment period for the Advance Notice of Proposed Rulemaking (ANPRM), “Used Drum Management and Reconditioning”. The EPA published this ANRPM in the Federal Register on August 11, 2023, and the public comment period was scheduled to end on September 25, 2023. However, the EPA has received several requests for additional time to develop and submit comments on the ANPRM. In response to the requests for additional time, the EPA is extending the comment period through November 22, 2023.

DATES: The comment period for the ANPRM published August 11, 2023, at 88 FR 54537, is extended. Comments must be received on or before November 22, 2023.

ADDRESSES:

Comments. You may send comments on the ANPRM, identified by Docket ID No. EPA-HQ-OLEM-2023-0320, by any of the following methods:

• Federal eRulemaking Portal: https://www.regulations.gov/ (our preferred method). Follow the online instructions for submitting comments.

• Mail: U.S. Environmental Protection Agency, EPA Docket Center, Office of Resource Conservation and Recovery Docket, Mail Code 28221T, 1200 Pennsylvania Avenue NW, Washington, DC 20460.

• Hand Delivery or Courier: EPA Docket Center, WJC West Building, Room 3334, 1301 Constitution Avenue NW, Washington, DC 20004. The Docket Center's hours of operations are 8:30 a.m.-4:30 p.m., Monday-Friday (except Federal Holidays).

Instructions: All submissions received must include the Docket ID No. for this rulemaking. Comments received may be posted without change to https://www.regulations.gov, including any personal information provided. For detailed instructions on sending comments see the “instructions” heading of the SUPPLEMENTARY INFORMATION section of this document.

FOR FURTHER INFORMATION CONTACT: Kaitlin Franssen, Materials Recovery and Waste Management Division, Office of Resource Conservation and Recovery (MC 5303P), Environmental Protection Agency, 1200 Pennsylvania Avenue NW, Washington, DC 20460; telephone number: (202) 566-0487; email address: Franssen.Kaitlin@epa.gov.

SUPPLEMENTARY INFORMATION:

Instructions: Submit your comments, identified by Docket ID No. EPA-HQ-OLEM-2023-0320, at https://www.regulations.gov (our preferred method), or the other methods identified in the ADDRESSES section. Once submitted, comments cannot be edited or removed from the docket. The EPA may publish any comment received to its public docket. Do not submit to EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

Summary: On August 11, 2023, the EPA published the Used Drum Management and Reconditioning Advance Notice of Proposed Rulemaking to solicit information and request comments to assist in the potential development of non-regulatory and regulatory options that would ensure the proper management of used industrial containers that held hazardous chemicals or hazardous waste, up to and including the drum reconditioning process. Options could include revising the Resource Conservation and Recovery Act (RCRA) regulations or other, non-regulatory options. This ANPRM does not propose any regulatory requirements or change any existing regulatory requirements.

The ANPRM's comment period was scheduled to end on September 25, 2023. Since publication, EPA has received several requests to extend that comment period to allow for additional time to develop comments on the ANPRM. After considering the requests for additional time, the EPA has decided to extend the comment period through November 22, 2023.

Dated: August 23, 2023.
Carolyn Hoskinson,
Director, Office of Resource Conservation and Recovery.

[FR Doc. 2023-19014 Filed 9-1-23; 8:45 am]

BILLING CODE 6560-50-P